NUCLEAR REGULATORY COMMISSION

[Docket No. 50-247]

Consolidated Edison Company of New York, Inc.; Indian Point Nuclear Generating Unit No. 2 Environmental Assessment and Finding of No Significant Impact

The U.S. Nuclear Regulatory Commission is considering issuance of an amendment to Facility Operating License No. DPR-26, issued to Consolidated Edison Company of New York, Inc., (the licensee), for operation of the Indian Point Nuclear Generating Unit No. 2 (IP2), located in Westchester County, New York. Therefore, as required by 10 CFR 51.21, the NRC is issuing this environmental assessment and finding of no significant impact.

Environmental Assessment

Identification of the Proposed Action

The proposed action would revise the Technical Specifications (TSs) to incorporate editorial revisions, clarifications, and corrections. Specifically, the proposed amendment would: (1) Provide updated information and corrections to the TS cover page, table of contents, and list of figures, (2) revise TS 4.5.E, “Control Room Air Filtration System,” to remove an incorrect system test description and provide consistent test values for system flow rate and filter efficiency, (3) revise TS 6.2.1.a, “Facility Management and Technical Support,” to reference the Quality Assurance Program Description as the location of the documentation rather than the Updated Final Safety Analysis Report, (4) revise TS 6.9.1.7, “Monthly Operating Report,” to change the recipient of the Monthly Operating Report, and (5) correct the periodicity of the Radioactive Effluent Release Report from semi-annual to annual in TS 6.15, “Offsite Dose Calculation Manual” and TS 6.16, “Major Changes to Radioactive Liquid, Gaseous and Solid Waste Systems.” In addition, the amendment would revise TS Figure 5.1-1B concerning the indicated vent location associated with Indian Point Unit 3 (IP3). The labels for the IP3 plant vent and the machine shop were reversed.

The proposed action is in accordance with the licensee's application dated December 11, 2000.

The Need for the Proposed Action

The proposed action is needed to make the TSs clearer and editorially accurate and to correct the system test description and clarify the test values for the control room air filtration system.

Environmental Impacts of the Proposed Action

The NRC has completed its evaluation of the proposed action and concludes that the changes correct editorial errors that currently exist in the TSs and provide additional clarifications. The proposed action does not modify the facility or affect the manner in which the facility is operated.

The proposed action will not significantly increase the probability or consequences of accidents, no changes are being made in the types of effluents that may be released off site, and there is no significant increase in occupational or public radiation exposure. Therefore, there are no significant radiological environmental impacts associated with the proposed action.

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resource than those previously considered in the Final Environmental Statement for IP2, dated September 1972.

Agencies and Persons Consulted

On August 21, 2001, the staff consulted with the New York State official, Mr. John P. Spath of the Energy Research and Development Authority, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated December 11, 2000. Documents may be examined, and/or copied for a fee, at the NRC's Public Document Room, located at One White Flint North, 11555 Rockville Pike (first floor), Rockville, Maryland. Publically available records will be accessible electronically from the ADAMS Public Library component on the NRC Web site, http://www.nrc.gov (the Public Electronic Reading Room). If you do not have access to ADAMS or if there are problems in accessing the documents located in ADAMS, contact the NRC Public Document Room (PDR) Reference staff at 1-800-397-4209, or 301-415-4737, or by e-mail at pdr@nrc.gov.

Dated at Rockville, Maryland, this 21st day of August 2001.
For the Nuclear Regulatory Commission
Peter S. Tam,
Acting Chief, Section 1, Project Directorate, Division of Licensing Project Management, Office of Nuclear Reactor Regulation.

[FR Doc. 01-21853 Filed 8-28-01; 8:45 am]

BILLING CODE 7590-01-P